DEPARTMENT OF COMMERCE

National Oceanic and Atmospheric Administration

50 CFR Part 635

[Docket No. 150116050-5123-01]

RIN 0648-XD726

Atlantic Highly Migratory Species; North and South Atlantic 2015 Commercial Swordfish Quotas

AGENCY: National Marine Fisheries Service (NMFS), National Oceanic and Atmospheric Administration (NOAA), Commerce.

ACTION: Proposed rule; request for comments.

SUMMARY: This proposed rule would adjust the 2015 fishing season quotas for North and South Atlantic swordfish based upon 2014 commercial quota underharvests and international quota transfers consistent with International Commission for the Conservation of Atlantic Tunas (ICCAT) Recommendations 13-02 and 13-03. This proposed rule would apply to commercial and recreational fishing for swordfish in the Atlantic Ocean, including the Caribbean Sea and Gulf of Mexico. This action would implement ICCAT recommendations, consistent with the Atlantic Tunas Convention Act (ATCA), and would further domestic management objectives under the Magnuson-Stevens Fishery Conservation and Management Act (Magnuson-Stevens Act).

DATES: Written comments must be received by March 23, 2015. An operator-assisted, public conference call and webinar will be held on March 3, 2015, from 1:00 p.m. to 4:00 p.m., EST.

ADDRESSES: The conference call-in phone number is 1-888-972-6893; participant pass code is 2759824. Participants are strongly encouraged to log/dial in 15 minutes prior to the meeting. NMFS will show a brief presentation via webinar followed by public comment. To join the webinar go to: https://noaaevents2.webex.com/noaaevents2/onstage/g.php?d=995250567&t=a, enter your name and email address, and click the “JOIN” button. Participants who have not used WebEx before will be prompted to download and run a plug-in program that will enable them to view the webinar.

You may submit comments on this document, identified by NOAA-NMFS-2015-0023, by any of the following methods:

• Electronic Submission: Submit all electronic public comments via the Federal e-Rulemaking Portal. Go to www.regulations.gov/#!docketDetail;D=NOAA-NMFS-2015-0023, click the “Comment Now!” icon, complete the required fields, and enter or attach your comments.

• Mail: Submit written comments to Margo Schulze-Haugen, NMFS/SF1, 1315 East-West Highway, National Marine Fisheries Service, SSMC3, Silver Spring, MD 20910.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

The call-in information for the public hearing is phone number 1-888-972-6893; participant pass code is 2759824. We will also provide a brief presentation via webinar. Participants can join the webinar at https://noaaevents2.webex.com/noaaevents2/onstage/g.php?d=995250567&t=a. Enter your name and email address, and click the “JOIN” button. Participants that have not used WebEx before will be prompted to download and run a plug-in program that will enable them to view the webinar. Presentation materials and other supporting information will be posted on the HMS Web site at: http://www.nmfs.noaa.gov/sfa/hms.

Copies of the supporting documents—including the 2012 Environmental Assessment (EA), Regulatory Impact Review (RIR), and Final Regulatory Flexibility Analysis (FRFA) for North Atlantic swordfish; the 2007 EA, RIR, and FRFA for South Atlantic swordfish; and the 2006 Consolidated Atlantic Highly Migratory Species Fishery Management Plan and associated documents—are available from the HMS Management Division Web site at http://www.nmfs.noaa.gov/sfa/hms/ or by contacting Steve Durkee by phone at 202-670-6637.

FOR FURTHER INFORMATION CONTACT: Steve Durkee by phone at 202-670-6637.

SUPPLEMENTARY INFORMATION:

Background

The U.S. Atlantic swordfish fishery is managed under the 2006 Consolidated Highly Migratory Species (HMS) Fishery Management Plan (FMP). Implementing regulations at 50 CFR part 635 are issued under the authority of the Magnuson-Stevens Act, 16 U.S.C. 1801 et seq., and ATCA, 16 U.S.C. 971 et seq. ATCA authorizes the Secretary of Commerce (Secretary) to promulgate regulations as may be necessary and appropriate to implement ICCAT recommendations.

North Atlantic Swordfish Quota

At the 2013 ICCAT annual meeting, Recommendation 13-02 was adopted, maintaining the North Atlantic swordfish total allowable catch (TAC) of 10,301 metric tons (mt) dressed weight (dw) (13,700 mt whole weight (ww)) through 2016. Of this TAC, the United States' baseline quota is 2,937.6 mt dw (3,907 mt ww) per year. ICCAT Recommendation 13-02 also includes an 18.8 mt dw (25 mt ww) annual quota transfer from the United States to Mauritania and limits allowable 2014 underharvest carryover to 15 percent of a contracting party's baseline quota. ICCAT capped the allowable underharvest at 25 percent of a contracting party's baseline quota allocation until the 2013 recommendation reduced it to 15 percent. Therefore, the United States may carry over a maximum of 440.6 mt dw (586.0 mt ww) of underharvest from 2014 to 2015. This proposed rule would adjust the U.S. baseline quota for the 2015 fishing year to account for the annual quota transfer to Mauritania and the 2014 underharvest.

The preliminary estimate of North Atlantic swordfish underharvest for 2014 was 2,469.3 mt dw as of December 31, 2014; therefore, NMFS is proposing to carry forward 440.6 mt dw, the maximum carryover allowed per Recommendation 13-02. The 2,937.6 mt dw baseline quota would be reduced by the 18.8 mt dw annual quota transfer to Mauritania and increased by the underharvest carryover of 440.6 mt dw, resulting in a proposed adjusted North Atlantic swordfish quota for the 2015 fishing year of 3,359.4 mt dw (2,937.6−18.8 + 440.6 = 3,359.4 mt dw). From that proposed adjusted quota, 50 mt dw would be allocated to the reserve category for inseason adjustments and research, and 300 mt dw would be allocated to the incidental category, which includes recreational landings and landings by incidental swordfish permit holders, per § 635.27(c)(1)(i). This would result in an allocation of 3,009.4 mt dw (3,359.4−50−300 = 3,009.4 mt dw) for the directed category, which would be split equally between two seasons in 2015 (January through June, and July through December) (Table 1).

The preliminary landings used to calculate the proposed adjusted quota for North Atlantic swordfish are based on commercial dealer reports and reports by anglers in the HMS Non-Tournament Recreational Swordfish and Billfish Landings Database and the Recreational Billfish Survey received as of December 31, 2014, and do not include dead discards or late landings reports. The estimates are preliminary and have not yet undergone quality control and assurance procedures. NMFS will adjust the quotas in the final rule based on updated data, including dead discard data, if available. Note that the United States has carried over the full amount of underharvest allowed under ICCAT recommendations for the past several years, and NMFS does not expect fishing activity to vary significantly from these past years. For the final adjusted quota to deviate from the proposed quota, the sum of updated landings data (from late reports) and dead discard estimates would need to reach or exceed 2,028.7 mt dw, which is the difference between the current estimate of the 2014 underharvest (2,469.3 mt dw) and the maximum carryover cap of 440.6 mt dw (2,469.3−440.6 = 2,028.7 mt dw). In 2013, dead discards were estimated to equal 90.2 mt dw and late reports equaled 143.0 mt dw. Consequently, NMFS does not believe updated data and dead discard estimates would alter the proposed adjusted quota. Thus, while the 2015 proposed North Atlantic swordfish quota is subject to further adjustments and this rule notifies the public of that potential change, NMFS does not expect the final quota to change from the proposed quota.

South Atlantic Swordfish Quota

In 2013, ICCAT Recommendation 13-03 established the South Atlantic swordfish TAC at 11,278.2 mt dw (15,000 mt ww) for 2014, 2015, and 2016. Of this, the United States receives 75.2 mt dw (100 mt ww). Recommendation 13-03 limits the amount of South Atlantic swordfish underharvest that can be carried forward, and the United States may carry forward up to 100 percent of its baseline quota (75.2 mt dw). Recommendation 13-03 also included a total of 75.2 mt dw (100 mt ww) of quota transfers from the United States to other countries. These transfers were 37.6 mt dw (50 mt ww) to Namibia, 18.8 mt dw (25 mt ww) to Côte d'Ivoire, and 18.8 mt dw (25 mt ww) to Belize.

In 2014, U.S. fishermen landed no South Atlantic swordfish according to data available as of December 31, 2014. The adjusted 2014 South Atlantic swordfish quota was 75.1 mt dw due to nominal landings the previous year. Therefore, 75.1 mt dw of underharvest is available to carry over to 2015. NMFS is proposing to carry forward 75.1 mt dw to be added to the 75.2 mt dw baseline quota. The quota would then be reduced by the 75.2 mt dw of annual international quota transfers outlined above, resulting in an adjusted South Atlantic swordfish quota of 75.1 mt dw for the 2015 fishing year.

As with the landings and proposed quota for North Atlantic swordfish, the South Atlantic swordfish landings and proposed quota are based on dealer reports received as of December 31, 2014, do not include dead discards or late landings reports, and are preliminary landings estimates that have not yet undergone quality control and assurance procedures. NMFS will adjust the quotas in the final rule based on any updated data, including dead discard data, if available. Thus, the 2015 proposed South Atlantic swordfish quota is subject to further adjustments. However, the United States has only landed South Atlantic swordfish twice in the past several years (0.2 mt dw in April 2010 and 0.1 mt dw in April 2013) and therefore does not anticipate additional landings or discard data that would change the final quota from the proposed quota.

Table 1—2015 North and South Atlantic Swordfish Quotas
North Atlantic swordfish quota (mt dw) | 2014 | 2015
Baseline Quota | 2,937.6 | 2,937.6
International Quota Transfer | (−)18.8 (to Mauritania) | (−)18.8 (to Mauritania)
Total Underharvest from Previous Year.+ | 1,337.4 | 2,469.3
Underharvest Carryover from Previous Year.+ | (+)734.4 | (+)440.6
Adjusted Quota | 3,653.2 | 3,359.4
Quota Allocation:
Directed Category | 3,303.2 | 3,009.4
Incidental Category | 300 | 300
Reserve Category | 50 | 50
South Atlantic swordfish quota (mt dw) | 2014 | 2015
Baseline Quota | 75.2 | 75.2
International Quota Transfers * | (−)75.2 | (−)75.2
Total Underharvest from Previous Year.+ | 75.1 | 75.1
Underharvest Carryover from Previous Year.+ | 75.1 | 75.1
Adjusted quota | 75.1 | 75.1
+ Allowable underharvest carryover is now capped at 15 percent of the baseline quota allocation for the North Atlantic (carryover was previously capped at 25 percent) and 75.2 dw (100 mt ww) for the South Atlantic. The available 2014 underharvest is based on data current as of December 31, 2014; it does not include dead discards, late reports, or changes to the data as a result of quality control adjustments.
* Under Recommendation 13-03, the U.S. transfers 75.2 mt dw (100 mt ww) annually to Namibia (37.6 mt dw, 50 mt ww), Côte d'Ivoire (18.8 mt dw, 25 mt ww), and Belize (18.8 mt dw, 25 mt ww).

Ecological and Socioeconomic Impacts

In the EA, RIR, and FRFA prepared for the 2012 North Atlantic swordfish quota specifications final rule (July 31, 2012; 77 FR 45273), NMFS analyzed the ecological and socioeconomic impacts of harvesting substantially the same amount of annual adjusted quota being proposed here in the 2015 North Atlantic swordfish specifications). Similarly, the impacts of harvesting the amount of annual baseline quota proposed in the 2015 South Atlantic swordfish specifications were analyzed in the EA, RIR, and FRFA that were prepared for the 2007 Swordfish Quota Specification Final Rule (October 5, 2007; 72 FR 56929).

The proposed North Atlantic swordfish quota adjustments would result in an adjusted quota for 2015 substantially similar to that analyzed in the 2012 EA, RIR, and FRFA and implemented in 2013 and 2014. The quota analyzed in the 2012 EA, RIR, and FRFA was 3,559.2 mt dw and the proposed 2015 adjusted quota is 3,359.4 mt dw; a decrease of 199.8 mt dw. The 2015 North Atlantic swordfish proposed quota is not expected to increase fishing effort, protected species interactions, or environmental effects in a manner not considered in the 2012 EA and would, in fact, cap all three at a level slightly lower than that analyzed in the 2012 EA. The difference between the quota analyzed in the 2012 EA and the 2015 proposed quota is due to two reasons. First, Recommendation 13-02 reduces the underharvest carryover limit beginning in 2015 from 25 percent of the base quota to 15 percent. In the 2012 EA, the analysis took into account North Atlantic Swordfish underharvest carryovers of up to 25 percent. Since the proposed change in the underharvest carryover limit is within this range (i.e., it is less than 25 percent), the quota that would be implemented consistent with the reduced carryover provision has been previously analyzed. Furthermore, once effective, the reduced underharvest carryover limit would result in a lower overall North Atlantic swordfish adjusted quota. For these reasons, the quota that would be analyzed is within the range of the previously-analyzed actions under the existing NEPA analyses, and additional National Environmental Policy Act (NEPA) analysis regarding the underharvest carryover limit is not necessary.

The second reason the 2012 quota is different than the 2015 proposed adjusted quota is Recommendation 13-02's elimination of the 112.8 mt dw quota transfer to Morocco and the introduction of a lower 18.8 mt dw quota transfer to Mauritania. No additional NEPA analysis is needed for the change in international quota transfers because in concert with the reduction in the underharvest carryover limit, these changes are not expected to increase fishing effort, affect protected species interactions, or environmental effects beyond those considered in the existing NEPA analyses. Thus, NMFS has determined that the North Atlantic swordfish quota portion of the specifications and impacts to the human environment as a result of the proposed quota adjustments do not require additional NEPA analysis beyond that discussed in the 2012 EA.

Similarly, NMFS analyzed in the EA, RIR, and FRFA that were prepared for the 2007 Swordfish Quota Specification Final Rule (October 5, 2007; 72 FR 56929) the impacts of harvesting the same amount of annual baseline quota being proposed here in the 2015 South Atlantic swordfish specifications. The proposed South Atlantic swordfish quota adjustments would not change overall quotas and are not expected to increase fishing effort, protected species interactions, or environmental effects beyond those analyzed in the 2007 EA. While ICCAT SCRS conducted a stock assessment for South Atlantic swordfish in 2013, that assessment did not alter the stock status or TAC from when 2007 EA analyses were conducted and no additional information about the environment has become available that would alter the analyses. Therefore, because there would be no changes to the South Atlantic swordfish management measures in this proposed rule, and no changes to the affected environment or any environmental effects that have not been previously analyzed, NMFS has determined that the South Atlantic swordfish quota portion of the specifications and impacts to the human environment as a result of the proposed quota adjustments do not require additional NEPA analysis beyond that analyzed in the 2007 EA.

Request for Comments

NMFS is requesting comments on any of the measures or analyses described in this proposed rule. During the comment period, NMFS will hold one conference call and webinar for this proposed rule. The conference call and webinar will be held on March 3, 2015, from 1:00-4:00 p.m. EST. Please see the DATES and ADDRESSES headings for more information.

The public is reminded that NMFS expects participants on phone conferences to conduct themselves appropriately. At the beginning of the conference call, a representative of NMFS will explain the ground rules (e.g., all comments are to be directed to the agency on the proposed action; attendees will be called to give their comments in the order in which they registered to speak; each attendee will have an equal amount of time to speak; attendees may not interrupt one another; etc.). NMFS representative(s) will structure the meeting so that all attending members of the public will be able to comment, if they so choose, regardless of the controversial nature of the subject(s). Attendees are expected to respect the ground rules, and those that do not may be removed from the conference call.

Classification

Pursuant to the Magnuson-Stevens Act, the NMFS Assistant Administrator has determined that the proposed rule is consistent with the 2006 Consolidated HMS FMP and its amendments, other provisions of the Magnuson-Stevens Act, the Atlantic Tunas Convention Act, and other applicable law, subject to further consideration after public comment.

This action is exempt from review under E.O. 12866.

Previously, NMFS determined that proposed rules to implement the North Atlantic swordfish quota framework (77 FR 25669, May 1, 2012) and South Atlantic swordfish quota framework (75 FR 35432, June 22, 2010) were consistent to the maximum extent practicable with the enforceable policies of the approved coastal management program of coastal states on the Atlantic, including the Gulf of Mexico and the Caribbean Sea. Pursuant to 15 CFR 930.41(a), NMFS provided the Coastal Zone Management Program of each coastal state a 60-day period to review the consistency determination and to advise the Agency of their concurrence. NMFS received concurrence with the consistency determinations from several states and inferred consistency from those states that did not respond within the 60-day time period. This proposed action to establish the 2015 North and South Atlantic swordfish quotas does not change the framework previously consulted upon; therefore, no additional consultation is required.

The Chief Council for Regulation of the Department of Commerce certified to the Chief Council for Advocacy of the Small Business Administration that this proposed rule, if adopted, would not have a significant economic impact on a substantial number of small entities because the proposed quota adjustments are the largely the same as in previous years and the United States is not expected to catch its entire quota in 2015.

As described above, this proposed rule would adjust the 2015 baseline quota for North Atlantic swordfish (January 1, 2015, through December 31, 2015) to account for 2014 underharvests, as allowable, and international quota transfers per § 635.27(c)(1)(i) and (c)(3)(ii) based on ICCAT Recommendation 13-02. The United States can carry over 2014 underharvest at a level not to exceed 15 percent of its baseline quota. Additionally, ICCAT Recommendation 13-02 stipulates that the United States transfer 18.8 mt dw (25 mt ww) of quota to Mauritania.

In 2014, U.S. fishermen landed 1,183.9 mt dw of North Atlantic swordfish as of December 31, 2014, leaving 2,469.3 mt dw of quota underharvest. This underharvest amount exceeds the maximum underharvest carryover of 440.6 mt dw; therefore, only the maximum amount of 440.6 mt dw of 2014 underharvest would be carried over and added to the 2015 baseline quota. The quota transfer of 18.8 mt dw to Mauritania would be deducted, leaving a proposed 2015 North Atlantic swordfish adjusted quota of 3,359.4 mt dw (Table 1).

This proposed rule would also adjust the 2015 baseline quota for South Atlantic swordfish (January 1, 2015, through December 31, 2015) to account for 2014 underharvests and international quota transfers per § 635.27(c)(1)(ii) and (c)(3)(ii) based on ICCAT Recommendation 13-03. The United States can carry over 2014 underharvest at a level not to exceed 100 percent of the baseline quota. Additionally, ICCAT Recommendation 13-03 stipulates that the United States transfer the following quota amounts to other countries: 37.6 mt dw (50 mt ww) to Namibia; 18.8 mt dw (25 mt ww) to Côte d'Ivoire; and 18.8 mt dw (25 mt ww) to Belize.

In 2014, U.S. fishermen landed no South Atlantic swordfish according to data available as of December 31, 2014. The adjusted 2014 South Atlantic swordfish quota was 75.1 mt dw due to nominal landings the previous year. Therefore, 75.1 mt dw of underharvest is available to carry over to 2015. NMFS is proposing to carry forward 75.1 mt dw to be added to the 75.2 mt dw baseline quota. The quota would then be reduced by the 75.2 mt dw of annual international quota transfers outlined above, resulting in an adjusted South Atlantic swordfish quota of 75.1 mt dw for the 2015 fishing year. (Table 1).

The commercial swordfish fishery is comprised of fishermen who hold one of three swordfish limited access permits (LAPs) (i.e., directed, incidental, or handgear), fishermen who hold a swordfish general commercial permit, fishermen who hold an HMS incidental squid trawl permit, fishermen who hold a commercial Caribbean small boat permit, and the related industries, including processors, bait houses, and equipment suppliers. As of October 2014, there were approximately 183 vessels with a directed swordfish LAP, 66 vessels with an incidental swordfish LAP, 77 vessels with a handgear LAP for swordfish, and 651 vessels that held a swordfish general commercial permit. Additionally, there were approximately 73 HMS incidental squid trawl permit holders, which allow vessels in the Illex squid fishery to retain up to 15 incidentally-caught swordfish while trawling for squid. NMFS considers all participants in the commercial swordfish fishery to be small entities, based on the relevant North American Industry Classification System (NAICS) codes and size standards set by the Small Business Administration (SBA).

The Small Business Administration (SBA) recently established new size criteria for all major industry sectors in the United States, including fish harvesters. On June 12, 2014, the SBA issued an interim final rule revising the small business size standards for several industries effective July 14, 2014 (79 FR 33467; June 12, 2014). The rule increased the size standard from $19.0 to $20.5 million for finfish fishing, from $5 to $5.5 million for shellfish fishing, and from $7.0 million to $7.5 million for other marine fishing, for-hire businesses, and marinas. NMFS has reviewed the analyses prepared for this action in light of the new size standards. Under the former, lower size standards, all entities subject to this action were considered small entities based on fishing revenues, thus they all would continue to be considered small under the new standards. The new size standards do not affect analyses prepared for this action.

This action is not expected to result in a significant economic impact on the small entities subject to the quota limits. Based on the 2014 average price for swordfish of $4.65/lb (based on 2014 electronic dealer data), the 2015 North and South Atlantic swordfish baseline quotas could result in gross revenues of $30,114,483 (2,937.6 mt dw (6,476,233 lbs dw) * $4.65/lb) and $770,905 (75.2 mt dw (165,786 lbs dw) * $4.65/lb), respectively, if the quotas were fully utilized. Under the adjusted quotas of 3,359.4 mt dw (7,406,133 lbs dw) for North Atlantic swordfish and 75.1 mt dw (165,565 lbs dw) for South Atlantic swordfish, the gross revenues could be $34,438,518 and $769,877, respectively, for fully utilized quotas.

Potential revenues per vessel resulting from full utilization of the adjusted quotas could be $32,799 for the North Atlantic swordfish fishery and $4,207 for the South Atlantic swordfish fishery, considering a total of 1,050 swordfish permit holders in the North Atlantic and 183 directed permit holders in the South Atlantic. The North Atlantic estimate, however, represents an average across all permit types, despite permit differences in retention limits, target species, and geographical range. For North Atlantic swordfish, directed swordfish permit holders would likely experience higher than average per-vessel ex-vessel revenues due to the use of pelagic longline gear and the lack of a per-trip retention limit, although trip expenses are likely to be relatively high. HMS incidental squid trawl permit holders would likely experience per vessel ex-vessel revenues well below those received by pelagic longline vessels due to the low retention limit per trip (15 swordfish) and because these vessels do not target swordfish and only catch them incidentally. Swordfish general commercial permit holders would likely experience lower than average per-vessel ex-vessel revenues, despite higher ex-vessel prices and lower fishing expenses. Although the proposed 2015 North Atlantic swordfish adjusted quoted is 199.8 mt dw lower than the quota analyzed in the 2012 EA, U.S. fishermen in recent years have not harvested the full North Atlantic swordfish quota. Thus, the 199.8 mt dw change in the total adjusted quota is unlikely to cause any economic impacts since that portion of the quota will likely go unutilized. In the future, if the North Atlantic swordfish fishery achieves full quota utilization, economic impacts will need to be reanalyzed. For South Atlantic swordfish, only directed swordfish permit holders can land these fish; therefore, potential revenue per vessel is higher than the average for these directed swordfish permit holders since the other permit types may not land swordfish. However, U.S. fishermen rarely catch South Atlantic swordfish. Over the past 5 years, 0.3 mt dw of South Atlantic swordfish catch has been reported. The proposed 2015 South Atlantic swordfish adjusted quota is unchanged from that analyzed in the 2007 EA, thus, no new economic impacts are expected.

Because the United States' commercial swordfish fishery is not expected to catch its entire quota in 2015, the adjustments to the quota and management measures proposed in this rule will not have a significant impact on a substantial number of small entities. As a result, no initial regulatory flexibility analysis is required, and none has been prepared.

Authority: 16 U.S.C. 971 et seq.; 16 U.S.C. 1801 et seq.

Dated: February 13, 2015.
Samuel D. Rauch III,
Deputy Assistant Administrator for Regulatory Programs, National Marine Fisheries Service.

[FR Doc. 2015-03432 Filed 2-18-15; 8:45 am]

BILLING CODE 3510-22-P